DEPARTMENT OF DEFENSE

Office of the Secretary

Defense Science Board

AGENCY: Department of Defense (DoD).

ACTION: Notice of advisory committee meeting.

SUMMARY: The Defense Science Board Task Force on the Survivability of DoD Systems and Assets to Electromagnetic Pulse (EMP) and other Nuclear Weapons Effects will meet in closed session on July 15 and 16, 2010, at Fort Belvoir, Virginia. The Task Force will receive, review and discuss presentations on: findings and recommendations of the Congressional EMP Commission, the Defense Science Board Threat Reduction Advisory Committee (TRAC) Task Force findings, recommendations and progress; implementation to date of DoD Instruction 3150.09; the SECDEF 2009 Report to Congress on EMP Survivability; 2010 Strategic Test Resource Management Center Plan for Nuclear Weapons Effects test & evaluation resources; DTRA-NNSA MOU and Joint Program Plan; DoD component updates; and discussion of future activities.

DATES: The meeting will be held on July 15 and 16, 2010.

ADDRESSES: The meeting will be held at the Defense Threat Reduction Agency (DTRA), Defense Threat Reduction Center Building, Brittigan Conference Room, 1252, 8725 John J. Kingman Road, Fort Belvoir, Virginia 22060-6201.

FOR FURTHER INFORMATION CONTACT: LTC Karen Walters, USA, Defense Science Board, 3140 Defense Pentagon, Room 3B888A, Washington, DC 20301-3140, via e-mail at karen.walters@osd.mil, or via phone at (703) 571-0082.

SUPPLEMENTARY INFORMATION: The mission of the Defense Science Board is to advise the Secretary of Defense and the Under Secretary of Defense for Acquisition, Technology & Logistics on scientific and technical matters as they affect the perceived needs of the Department of Defense. At these meetings, the Defense Science Board Task Force will act as an independent sounding board to the Joint IED organization by providing feedback at quarterly intervals; and develop strategic and operational plans, examining the goals, process and substance of the plans.

The task force's findings and recommendations, pursuant to 41 CFR 102-3.140 through 102-3.165, will be presented and discussed by the membership of the Defense Science Board prior to being presented to the Government's decision maker.

Pursuant to 41 CFR 102-3.120 and 102-3.150, the Designated Federal Officer for the Defense Science Board will determine and announce in the Federal Register when the findings and recommendations of the July 15-16, 2010, meeting are deliberated by the Defense Science Board.

Interested persons may submit a written statement for consideration by the Defense Science Board. Individuals submitting a written statement must submit their statement to the Designated Federal Official (see FOR FURTHER INFORMATION CONTACT), at any point, however, if a written statement is not received at least 10 calendar days prior to the meeting, which is the subject of this notice, then it may not be provided to or considered by the Defense Science Board. The Designated Federal Official will review all timely submissions with the Defense Science Board Chairperson, and ensure they are provided to members of the Defense Science Board before the meeting that is the subject of this notice.

Dated: June 3, 2010.
Mitchell S. Bryman,
Alternate OSD Federal Register Liaison Officer, Department of Defense.

[FR Doc. 2010-13770 Filed 6-7-10; 8:45 am]

BILLING CODE 5001-06-P